DEPARTMENT OF JUSTICE

Drug Enforcement Administration

[Docket No. DEA-392]

Bulk Manufacturer of Controlled Substances Application: Organix, Inc.

Correction

Notice document 2017-28180, appearing on page 539, in the issue of January 4, 2018 was inadvertently published in error and should not have appeared in the Federal Register.

[FR Doc. C1-2017-28180 Filed 1-22-18; 8:45 am]

BILLING CODE 1301-00-D